DEPARTMENT OF TRANSPORTATION

Federal Aviation Administration

14 CFR Part 39

[Docket No. 2001-NM-47-AD]

RIN 2120-AA64

Airworthiness Directives; McDonnell Douglas Model 717 Series Airplanes

AGENCY: Federal Aviation Administration, DOT.

ACTION: Notice of proposed rulemaking (NPRM).

SUMMARY: This document proposes the adoption of a new airworthiness directive (AD) that is applicable to certain McDonnell Douglas Model 717 series airplanes. This proposal would require repetitive inspections of the rod ends of the spoiler hold-down actuators for breakage along the intersection of the thread runout and the outer spherical surface of the lug; and replacement of any broken rod end of the spoiler hold-down actuators with a new rod end. This proposal also would require replacement of the rod ends of the spoiler hold-down actuators with new rod ends, and reidentification of the spoiler hold-down actuators, which would constitute terminating action for the repetitive inspections. This action is necessary to prevent failure of the rod ends of the spoiler hold-down actuators due to fatigue, which could result in loss of the back-up protection of the spoiler float hold-down and unavailability of monitoring for an uncommanded spoiler movement. This action is intended to address the identified unsafe condition.

DATES: Comments must be received by June 29, 2001.

ADDRESSES: Submit comments in triplicate to the Federal Aviation Administration (FAA), Transport Airplane Directorate, ANM-114, Attention: Rules Docket No. 2001-NM-47-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-47-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Maureen Moreland, Aerospace Engineer, Airframe Branch, ANM-120L, FAA, Los Angeles Aircraft Certification Office, 3960 Paramount Boulevard, Lakewood, California 90712-4137; telephone (562) 627-5238; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-47-AD.” The postcard will be date stamped and returned to the commenter.

Availability of NPRMs

Any person may obtain a copy of this NPRM by submitting a request to the FAA, Transport Airplane Directorate, ANM-114, Attention: Rules Docket No. 2001-NM-47-AD, 1601 Lind Avenue, SW., Renton, Washington 98055-4056.

Discussion

The FAA has received reports of failures of the attach lug rod end on the spoiler hold-down actuators on McDonnell Douglas Model 717 series airplanes. These failures initiated along a region at the intersection of the thread runout and the outer spherical surface of the lug. Investigation revealed that such failures were caused by fatigue rupture with multiple failure origins. Failure of the rod ends of the spoiler hold-down actuators due to fatigue, if not corrected, could result in loss of the back-up protection of the spoiler float hold-down and unavailability of monitoring for an uncommanded spoiler movement.

Explanation of Relevant Service Information

The FAA has reviewed and approved Boeing Alert Service Bulletin 717-27A0010, dated August 15, 2000. This service bulletin describes procedures for repetitive general visual inspections of the rod ends of the hold-down actuators of the inboard and outboard spoilers for breakage along the intersection of the thread runout and the outer spherical surface of the lug; and replacement of any broken rod end of the spoiler hold-down actuators with a new rod end.

The FAA also has reviewed and approved Boeing Service Bulletin 717-27-0013, dated January 30, 2001, and Revision 01, dated February 28, 2001. The service bulletin describes procedures for replacement of the rod ends of the spoiler hold-down actuators with new rod ends, and reidentification of the spoiler hold-down actuators, which would eliminate the need for the repetitive inspections described above. The effectivity listing of Revision 01 of the service bulletin was revised from the original version of the service bulletin to include additional airplanes that are subject to the identified unsafe condition.

Explanation of Requirements of Proposed Rule

Since an unsafe condition has been identified that is likely to exist or develop on other products of this same type design, the proposed AD would require accomplishment of the actions specified in the service bulletins described previously. Accomplishment of the actions specified in the service bulletins is intended to adequately address the identified unsafe condition.

Explanation of Differences Between Service Bulletin and the Proposed AD

Operators should note that, although the effectivity listing of Boeing Service Bulletin 717-27A0010 affects airplanes having manufacturer's fuselage numbers 5002 through 5082 inclusive, this proposed AD does not affect McDonnell Douglas Model 717 series airplanes, manufacturer's fuselage numbers 5002, 5003, 5037 and subsequent. Those airplanes had improved rod ends installed during production that address the identified unsafe condition of this proposed AD. Therefore, those airplanes are not subject to the requirements of this proposed AD.

Cost Impact

There are approximately 33 Model 717 series airplanes of the affected design in the worldwide fleet. The FAA estimates that 23 airplanes of U.S. registry would be affected by this proposed AD.

It would take approximately 1 work hour per airplane to accomplish the proposed inspection, at an average labor rate of $60 per work hour. Based on these figures, the cost impact of the inspection proposed by this AD on U.S. operators is estimated to be $1,380, or $60 per airplane, per inspection cycle.

It would take approximately 14 work hours per airplane to accomplish the proposed replacement and reidentification, at an average labor rate of $60 per work hour. The manufacturer has committed previously to its customers that it will bear the cost of replacement parts. As a result, the cost of those parts is not attributable to this proposed AD. Based on these figures, the cost impact of the replacement and reidentification proposed by this AD on U.S. operators is estimated to be $19,320, or $840 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2001-NM-47-AD.

Applicability: Model 717 series airplanes, manufacturer's fuselage numbers 5004 through 5036 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of the rod ends of the spoiler hold-down actuators due to fatigue, which could result in loss of the back-up protection of the spoiler float hold-down and unavailability of monitoring for an uncommanded spoiler movement, accomplish the following:

General Visual Inspection

(a) Within 450 flight hours after the effective date of this AD, do a general visual inspection of the rod ends of the spoiler hold-down actuators of the inboard and outboard spoilers for breakage along the intersection of the thread runout and the outer spherical surface of the lug, per Boeing Alert Service Bulletin 717-27A0010, dated August 15, 2000.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Condition 1 (No Breakage Present)

(1) If no breakage is present, repeat the general visual inspection every 450 flight hours.

Condition 2 (Breakage Present)

(2) If any breakage is present, before further flight, replace the broken rod end of the spoiler hold-down actuator with a new rod end, per Boeing Alert Service Bulletin 717-27A0010, dated August 15, 2000; or Boeing Service Bulletin 717-27-0013, dated January 30, 2001, or Revision 01, dated February 28, 2001. As of the effective date of this AD, the replacement shall be done per Boeing Service Bulletin 717-27-0013, Revision 01, dated February 28, 2001. For rod ends that have been replaced per Boeing Alert Service Bulletin 717-27A0010, dated August 15, 2000, repeat the general visual inspection thereafter every 450 flight hours. Accomplishment of this replacement per Boeing Service Bulletin 717-27-0013 constitutes terminating action for the requirements of this AD for that rod end.

Terminating Action

(b) Within 15 months or 3,600 flight hours after the effective date of this AD, whichever occurs first, replace the rod ends of the spoiler hold-down actuators with new rod ends, and reidentify the spoiler hold-down actuators, per Boeing Service Bulletin 717-27-0013, dated January 30, 2001, or Revision 01, dated February 28, 2001. Accomplishment of this replacement and reidentification constitutes terminating action for the requirements of this AD.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permit

(d) Special flight permits may be issued in accordance with sections 21.197 and 21.199 of the Federal Aviation Regulations (14 CFR 21.197 and 21.199) to operate the airplane to a location where the requirements of this AD can be accomplished.

Issued in Renton, Washington, on May 9, 2001.
Donald L. Riggin,
Acting Manager, Transport Airplane Directorate, Aircraft Certification Service.

[FR Doc. 01-12176 Filed 5-14-01; 8:45 am]

BILLING CODE 4910-13-P